SECURITIES AND EXCHANGE COMMISSION

[Release Nos. 33-8479; 34-50282; 35-27887; IA-2285; IC-26584, File No. S7-49-02]

RIN 3235-AI73

Strengthening the Commission's Requirements Regarding Auditor Independence

AGENCY: Securities and Exchange Commission.

ACTION: Notice of OMB Approval of Collections of Information.

FOR FURTHER INFORMATION CONTACT: Robert E. Burns, Chief Counsel, Office of the Chief Accountant, Securities and Exchange Commission, 450 Fifth Street, NW., Washington, DC 20549-0506, at (202) 942-4400.

SUPPLEMENTARY INFORMATION: The Office of Management and Budget has approved the collection of information requirements contained in Strengthening the Commission's Requirements Regarding Auditor Independence,¹ titled:

¹ Securities Exchange Act Release No. 47265 (Jan. 28, 2003), 68 FR 6006 (Feb. 5, 2003).

(1) “Proxy Statements—Regulation 14A (Commission Rules 14a-1 through 14a-15 and Schedule 14A)” (OMB Control No. 3235-0059);

(2) “Information Statements—Regulation 14C (Commission Rules 14c-1 through 14c-7 and Schedule 14C)” (OMB Control No. 3235-0057);

(3) “Form 10-K” (OMB Control No. 3235-0063);

(4) “Form 10-KSB” (OMB Control No. 3235-0420);

(5) “Form 20-F” (OMB Control No. 3235-0288);

(6) “Form 40-F” (OMB Control No. 3235-0381); and

(7) “Form N-CSR” (OMB Control No. 3235-0570).

Dated: August 27, 2004.
Margaret H. McFarland,
Deputy Secretary.

[FR Doc. 04-20033 Filed 9-1-04; 8:45 am]

BILLING CODE 8010-01-P